DEPARTMENT OF STATE

[Public Notice 3809]

Privacy Act of 1974, as Amended: Removal of a System of Records

Notice is hereby given that the Department of State is removing a system of records “Bureau of Economic and Business Affairs Data Bank of Economic Officers—STATE-56,” pursuant to the provisions of the Privacy Act of 1974, as amended (5 U.S.C. 552a(5)), and in accordance with the record-keeping practices of the Bureau of Economic and Business Affairs.

The Bureau of Economic and Business Affairs determined that it was no longer necessary to maintain STATE-56 as a system of records once the Bureau of Human Resources implemented the Global Employment Management Systems electronically. Comparable files are now located in “Human Resources Records—STATE-31.” STATE-56 files have been destroyed in accordance with published disposition schedules of the Department of State and as approved by the National Archives and Records Administration and consequently STATE-56 has been removed.

Dated: October 2, 2001.
William A. Eaton,
Assistant Secretary for the Bureau of Administration, Department of State.

[FR Doc. 01-25403 Filed 10-9-01; 8:45 am]

BILLING CODE 4710-24-P